DEPARTMENT OF TRANSPORTATION

Federal Aviation Administration

14 CFR Part 39

[Docket No. FAA-2005-20880; Directorate Identifier 2003-NM-229-AD; Amendment 39-14327; AD 2005-20-30]

RIN 2120-AA64

Airworthiness Directives; Boeing Model 747-100, 747-100B, 747-100B SUD, 747-200B, 747-300, 747SP, and 747SR Series Airplanes

AGENCY: Federal Aviation Administration (FAA), Department of Transportation (DOT).

ACTION: Final rule.

SUMMARY: The FAA is superseding an existing airworthiness directive (AD), which applies to certain Boeing Model 747 series airplanes. That AD currently requires repetitive inspections to detect cracks in various areas of the fuselage internal structure, and repair if necessary. This new AD requires repetitive inspections of additional areas of the fuselage internal structure, and related investigative/corrective actions if necessary. This new AD also removes certain requirements from the existing AD. This AD results from fatigue testing of the fuselage structure of a Boeing Model 747SR series airplane. We are issuing this AD to prevent the loss of the structural integrity of the fuselage, which could result in rapid depressurization of the airplane.

DATES: Effective November 16, 2005.

The Director of the Federal Register approved the incorporation by reference of Boeing Service Bulletin 747-53A2349, Revision 2, dated April 3, 2003, as of November 16, 2005.

On June 27, 2002 (67 FR 36081, May 23, 2002), the Director of the Federal Register approved the incorporation by reference of Boeing Alert Service Bulletin 747-53A2349, Revision 1, dated October 12, 2000.

On June 11, 1993 (58 FR 27927, May 12, 1993), the Director of the Federal Register approved the incorporation by reference of Boeing Service Bulletin 747-53-2349, dated June 27, 1991.

ADDRESSES: You may examine the AD docket on the Internet at http://dms.dot.gov or in person at the Docket Management Facility, U.S. Department of Transportation, 400 Seventh Street SW., Nassif Building, room PL-401, Washington, DC.

Contact Boeing Commercial Airplanes, P.O. Box 3707, Seattle, Washington 98124-2207, for service information identified in this AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-10-10, amendment 39-12756 (67 FR 36081, May 23, 2002). The existing AD applies to certain Boeing Model 747 series airplanes. That NPRM was published in the Federal Register on April 11, 2005 (70 FR 18332). That NPRM proposed to require repetitive inspections to detect cracks in various areas of the fuselage internal structure, and related investigative/corrective actions if necessary.

Comments

We provided the public the opportunity to participate in the development of this AD. We have considered the comments that have been received on the NPRM.

Request To Clarify Paragraph (b) of the NPRM

One commenter, the manufacturer, requests that paragraph (b) of the NPRM be revised to indicate that the NPRM does not address the upper deck floor beams, one subject of AD 2002-10-10. The commenter suggests that paragraph (b) be revised to read, “This AD supersedes AD 2002-10-10, amendment 39-12756 (67 FR 36081, May 23, 2002), except AD 2002-10-10, paragraphs (a)(1), (d), (e), and (g), are not addressed by this AD.”

We do not agree. In the “Other Related Rulemaking” section of the NPRM, we clarified that all requirements from AD 2002-10-10 related to the upper deck floor beams are included in a separate rulemaking action. Consequently, on April 1, 2005, we issued an NPRM, Docket No. FAA-2005-20879, to propose to address cracking in the upper chords of the upper deck floor beams. That NPRM was published in the Federal Register on April 11, 2005 (70 FR 18327). We have not revised the final rule in this regard.

Request To Revise Paragraph (i) of the NPRM

The same commenter requests that paragraph (i) of the NPRM be revised to indicate that the inspection for the areas specified in paragraph (i)(5) of the NPRM consists of internal and external detailed inspections. The commenter notes that the revision should be made to agree with Boeing Service Bulletin 747-53A2349, Revision 2, dated April 3, 2003 (which is referenced as the appropriate source of service information for accomplishing the proposed actions).

We agree with the commenter. The inspections of the nose wheel well bulkheads and floor beams specified in paragraph (i)(5) of the final rule are internal and external inspections. We have revised paragraph (i) of the final rule accordingly.

Request To Move Grace Period From Paragraph (j)(2) to Paragraph (j)(1)

The same commenter requests that the grace period “within 1,000 flight cycles after the effective date of this AD,” be removed from the compliance time in paragraph (j)(2) of the NPRM and be added to the compliance time in paragraph (j)(1) of the NPRM. The commenter believes moving the grace period will convey the true intent of the service bulletin. The commenter states that the grace period can be removed from paragraph (j)(2) because the paragraph applies to operators that have already performed the inspections specified in paragraphs (i)(5) and (i)(7) of the NPRM. The commenter explains that these operators therefore are using Revision 2 of the service bulletin and would continue the inspections at the 3,000-flight-cycle repetitive interval.

We partially agree with the commenter. We agree with the commenter that the grace period “within 1,000 flight cycles after the effective date of this AD” should be added to the compliance time in paragraph (j)(1) of the final rule and have revised paragraph (j)(1) accordingly. We find that the grace period will keep airplanes from being grounded unnecessarily and will provide an acceptable level of safety. However, we do not agree to remove the grace period from paragraph (j)(2) of the final rule. Operators that have voluntarily accomplished the inspections specified in paragraphs (i)(5) and (i)(7) of the final rule before the effective date of the final rule should be given the same grace period for the new inspections as operators that have not done the inspections specified in paragraphs (i)(5) and (i)(7). We also note that this grace period is for the new inspections specified in paragraphs (i)(5) and (i)(7) and that operators are still required to do the inspections specified in paragraph (f) of the final rule at intervals not to exceed 3,000 flight cycles until all the inspections required by paragraph (i) of the final rule are done.

Request To Revise Compliance Time in Paragraph (j)(3)

The same commenter requests that the compliance time specified in paragraph (j)(3) of the NPRM be revised to clarify that the grace period is limited to the “new work” specified in paragraphs (i)(5) and (i)(7) of the NPRM. The commenter states that the existing compliance time would allow deferral of all the inspections until 23,000 total flight cycles. The commenter recommends that the compliance time read as follows: “Accomplish the inspections required by paragraphs (i)(1), (i)(2), (i)(3), (i)(4), (f)(5), and (i)(6) of this AD prior to the accumulation of 22,000 flight cycles. Accomplish the inspections required by paragraphs (i)(5) and (i)(7) of this AD prior to the accumulation of 22,000 flight cycles, or within 1,000 flight cycles after the effective date of this AD, whichever is later.”

We acknowledge that the only new inspections required by the final rule are the inspections specified in paragraphs (i)(5) and (i)(7) of the final rule. However, we do not agree that the compliance time specified in paragraph (j)(3) of the final rule allows for deferral of the other inspections specified in paragraph (i) of the final rule. Although an operator may delay doing the inspections specified in paragraphs (i)(1), (i)(2), (i)(3), (i)(4), and (i)(6) of the final rule until the end of the grace period, the operator is still required to do the equivalent inspections specified in paragraph (f) of the final rule. Thus the existing inspections required by paragraph (f) of the final rule must be done at the compliance times specified in paragraph (f) until all the inspections required by paragraph (i) are done. We have not changed the final rule in this regard.

Request To Clarify Repair Reference

The same commenter requests that paragraphs (h) and (k) of the NPRM be revised to clarify that the Boeing Structural Repair Manuals (SRMs) meet the intent of the NPRM for repairs. The commenter contends that the SRMs contain the appropriate repairs and are referenced in Boeing Service Bulletin 747-53-2349. The commenter believes that the phrase “For a repair method to be approved, the approval must specifically reference this AD” in the second part of paragraph (k) should apply only to the second part of the paragraph that says to “contact Boeing.” The commenter notes that some operators may have already done the repair per the SRM and suggests it would be best to state that the SRMs meet the intent of the AD.

We partially agree with the commenter. We agree with the commenter that the SRM procedures referenced in the service bulletin are an appropriate source of service information for doing the repairs required by the final rule. We have revised paragraph (h) of the final rule to allow operators to do repairs in accordance with Boeing Service Bulletin 747-53A2349, Revision 2, as specified in paragraph (k) of the final rule.

However, we do not agree to revise paragraph (k) of the final rule to state that the SRM meets the intent of the final rule because paragraph (k) specifies to do the repair in accordance with Boeing Service Bulletin 747-53A2349, Revision 2, which references the SRM. Therefore, operators that do the repair in accordance with the applicable SRM referenced in the service bulletin meet the repair requirement of the final rule and do not need further FAA approval. Paragraph (k) of the final rule specifies to repair in accordance with FAA approval only where the service bulletin specifies to contact Boeing for repair. Thus, operators are required to obtain FAA approval only for repairs that are beyond the scope of the service bulletin or SRM. As the commenter noted, the phrase, “For a repair method to be approved, the approval must specifically reference this AD,” applies only to operators that are required to obtain FAA approval. We have not revised the final rule in this regard.

Request To Include Effect of AD 2004-07-22 on the NPRM

Two commenters request that the NPRM include the effect of AD 2004-07-22, amendment 39-13566 (69 FR 18250, April 7, 2004), which mandates Boeing Document No. D6-35022, “Supplemental Structural Inspection Document,” (SSID) for Model 747 Airplanes, Revision G, dated December 2000. One commenter states that it has done the SSID inspections required by AD 2004-07-22 and that the NPRM may include inspections already covered by the SSID inspections. The commenter suggests that, to prevent duplicate work, the NPRM should identify the paragraphs for which SSID inspections are acceptable as an alternative method of compliance (AMOC). The other commenter, the manufacturer, notes that the SSID includes statements that allow the use of Boeing Service Bulletin 747-53-2349 inspections in lieu of SSID inspections. The commenter notes that, because of the NPRM, there will be a requirement to perform the SSID inspections and the Boeing Service Bulletin 747-53-2349 inspections without an allowance to use the service bulletin inspections as a substitute for the SSID inspections. The commenter contends that it is better to have an operator use the service bulletin inspections due to the improved level of detailed instructions.

We acknowledge that certain inspections done in accordance with Boeing Service Bulletin 747-53-2349 may be acceptable as a substitute for corresponding SSID inspections and vice versa, because inspections done in accordance with both documents cover common areas. However, operators must identify the inspections and substantiate that any substitutions would provide an acceptable level of safety, and we must approve any substitutions. In order to avoid further delay to the inspections required by this final rule, we have not revised the final rule in this regard. Operators may request approval for AMOCs according to paragraph (m) of this final rule. For AD 2004-07-22, operators may request approval for AMOCs according to paragraph (g) of that AD.

Explanation of Change Made to This Final Rule

We have simplified paragraphs (h)(1), (h)(2), and (k) of this AD by referring to the “Alternative Methods of Compliance (AMOCs)” paragraph (m) of this final rule for repair methods.

Clarification of AMOC Paragraph

We have revised this final rule to clarify the appropriate procedure for notifying the principal inspector before using any approved AMOC on any airplane to which the AMOC applies.

Conclusion

We have carefully reviewed the available data, including the comments that have been received, and determined that air safety and the public interest require adopting the AD with the changes described previously. We have determined that these changes will neither increase the economic burden on any operator nor increase the scope of the AD.

Costs of Compliance

This AD will affect about 489 airplanes worldwide, and 155 airplanes of U.S. registry. The following table provides the estimated costs for U.S. operators to comply with this AD.

Estimated Costs
Action | Work hours | Average labor rate per hour | Parts | Cost per airplane, per inspection cycle | Number of U.S.-registered airplanes | Fleet cost
Inspections, excluding upper deck floor beams, per inspection cycle (required by AD 2002-10-10) | 145 | $65 | None | $9,425 | 155 | $1,460,875
Inspections (new AD) | 130 | 65 | None | 8,450 | 155 | 1,309,750

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12756 (67 FR 36081, May 23, 2002) and by adding the following new airworthiness directive (AD):

2005-20-30 Boeing: Amendment 39-14327. Docket No. FAA-2005-20880; Directorate Identifier 2003-NM-229-AD.

Effective Date

(a) This AD becomes effective November 16, 2005.

Affected ADs

(b) This AD supersedes AD 2002-10-10.

Applicability

(c) This AD applies to Boeing Model 747-100, 747-100B, 747-100B SUD, 747-200B, 747-300, 747SP, and 747SR series airplanes; certificated in any category; identified in Boeing Service Bulletin 747-53A2349, Revision 2, dated April 3, 2003.

Unsafe Condition

(d) This AD was prompted by the results of fatigue testing of the fuselage structure of a Boeing Model 747SR series airplane. We are issuing this AD to prevent the loss of the structural integrity of the fuselage, which could result in rapid depressurization of the airplane.

Compliance

(e) You are responsible for having the actions required by this AD performed within the compliance times specified, unless the actions have already been done.

Restatement of Requirements of AD 2002-10-10 (Excluding Upper Deck Floor Beams)

Repetitive Inspections

(f) Prior to the accumulation of 22,000 total flight cycles, or within 1,000 flight cycles after June 11, 1993 (the effective date of AD 93-08-12, amendment 39-8559), whichever occurs later, unless accomplished previously within the last 2,000 flight cycles; and thereafter at intervals not to exceed 3,000 flight cycles: Perform an internal detailed inspection to detect cracks in the areas of the fuselage internal structure specified in paragraphs (f)(1) through (f)(6) of this AD; in accordance with Boeing Service Bulletin 747-53-2349, dated June 27, 1991; Boeing Alert Service Bulletin 747-53A2349, Revision 1, dated October 12, 2000; or Boeing Service Bulletin 747-53A2349, Revision 2, dated April 3, 2003. After the effective date of this AD, only Revision 2 of Boeing Service Bulletin 747-53A2349 may be used. Continue doing the inspections until the inspections required by paragraph (i) of this AD are done.

(1) Section 42 upper lobe frames.

(2) Section 46 lower lobe frames.

(3) Section 42 lower lobe frames.

(4) Main entry door cutouts.

(5) Section 41 body station 260, 340, and 400 bulkheads.

(6) Main entry doors.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) Prior to the accumulation of 25,000 total flight cycles, or within 1,000 flight cycles after June 11, 1993, whichever is later, unless already done within the last 2,000 flight cycles; and thereafter at intervals not to exceed 3,000 flight cycles: Do an internal detailed inspection to detect cracks in the Section 46 upper lobe frames, in accordance with Boeing Service Bulletin 747-53-2349, dated June 27, 1991; Boeing Alert Service Bulletin 747-53A2349, Revision 1, dated October 12, 2000; or Boeing Service Bulletin 747-53A2349, Revision 2, dated April 3, 2003. After the effective date of this AD, only Revision 2 of Boeing Service Bulletin 747-53A2349 may be used.

Repair of Cracks Detected During Paragraph (f) or (g) Inspections

(h) Before further flight, repair any cracks detected during the inspections done per paragraph (f) or (g) of this AD by doing the actions specified in paragraph (h)(1) or (h)(2) of this AD, as applicable.

(1) Repair in accordance with a method approved by the Manager, Seattle Aircraft Certification Office (ACO), FAA; or using a method approved in accordance with paragraph (m) of this AD.

(2) Repair in accordance with Boeing Service Bulletin 747-53A2349, Revision 2, dated April 3, 2003. Where the service bulletin specifies to contact Boeing for repair instructions, repair in accordance with a method approved by the Manager, Seattle ACO; or using a method approved in accordance with paragraph (m) of this AD.

New Requirements of This AD

Repetitive Inspections

(i) Do an internal detailed inspection to detect cracking in the areas of the fuselage internal structure specified in paragraphs (i)(1), (i)(2), and (i)(3) of this AD, and internal and external detailed inspections of the areas specified in paragraphs (i)(4), (i)(5), (i)(6), and (i)(7) of this AD. Do the inspections in accordance with Boeing Service Bulletin 747-53A2349, Revision 2, dated April 3, 2003. Do the inspections at the applicable time specified in paragraph (j) of this AD. Accomplishment of these inspections terminates the requirements of paragraph (f) of this AD.

(1) Section 42 upper lobe frames.

(2) Section 46 lower lobe frames.

(3) Section 42 lower lobe frames.

(4) Main entry door cutouts.

(5) Nose wheel well bulkheads, sidewall panels, and the STA 360 and 380 floor beams. These areas include the Section 41 body station 260, 340, and 400 bulkheads.

(6) Main entry doors.

(7) Main electronics bay access door cutout.

(j) Do the inspections required by paragraph (i) of this AD at the applicable time specified in paragraph (j)(1), (j)(2), or (j)(3) of this AD. Repeat the inspections thereafter at intervals not to exceed 3,000 flight cycles.

(1) For airplanes on which the inspections required by paragraphs (f)(1), (f)(2), (f)(3), (f)(4), and (f)(6) of this AD have been done before the effective date of this AD, but the inspections required by paragraphs (i)(5) and (i)(7) of this AD have not been done: Within 3,000 flight cycles since accomplishment of the most recent inspection required by paragraphs (f)(1), (f)(2), (f)(3), (f)(4), and (f)(6) of this AD, except the inspections specified in paragraphs (i)(5) and (i)(7) of this AD may be done within 3,000 flight cycles since accomplishment of the most recent inspection required by paragraphs (f)(1), (f)(2), (f)(3), (f)(4), and (f)(6) of this AD, or within 1,000 flight cycles after the effective date of this AD, whichever is later.

(2) For airplanes on which the inspections required by paragraphs (i)(5) and (i)(7) have been done before the effective date of this AD: Within 3,000 flight cycles since accomplishment of the most recent inspection required by paragraphs (i)(5) and (i)(7) of this AD, or within 1,000 flight cycles after the effective date of this AD, whichever is later.

(3) For airplanes on which the inspections required by paragraph (f) of this AD have not been done before the effective date of this AD: Prior to the accumulation of 22,000 total flight cycles, or within 1,000 flight cycles after the effective date of this AD, whichever is later.

Repair of Cracks Detected During Paragraph (i) Inspection

(k) Before further flight, repair any cracking found during any inspection required by paragraph (i) of this AD in accordance with Boeing Service Bulletin 747-53A2349, Revision 2, dated April 3, 2003. Where the service bulletin specifies to contact Boeing for repair instructions, repair in accordance with a method approved by the Manager, Seattle ACO; or using a method approved in accordance with paragraph (m) of this AD.

Actions Previously Accomplished

(l) Inspections required by paragraph (i) of this AD, accomplished before the effective date of this AD, in accordance with the Accomplishment Instructions of Boeing Service Bulletin 747-53-2349, dated June 27, 1991; or Boeing Alert Service Bulletin 747-53A2349, Revision 1, dated October 12, 2000; are acceptable for compliance with the corresponding action required by paragraph (i) of this AD.

Alternative Methods of Compliance (AMOCs)

(m)(1) The Manager, Seattle ACO, FAA, has the authority to approve AMOCs for this AD, if requested using the procedures found in 14 CFR 39.19.

(2) Before using any AMOC approved in accordance with 14 CFR 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) Alternative methods of compliance and FAA-approved repairs, approved previously in accordance with AD 2002-10-10 or AD 93-08-12, are approved as alternative methods of compliance with the corresponding requirements of this AD.

Material Incorporated by Reference

(n) You must use Boeing Service Bulletin 747-53-2349, dated June 27, 1991; Boeing Alert Service Bulletin 747-53A2349, Revision 1, dated October 12, 2000; or Boeing Service Bulletin 747-53A2349, Revision 2, dated April 3, 2003; to perform the actions that are required by this AD, unless the AD specifies otherwise.

(1) The Director of the Federal Register approves the incorporation by reference of Boeing Service Bulletin 747-53A2349, Revision 2, dated April 3, 2003, in accordance with 5 U.S.C. 552(a) and 1 CFR part 51.

(2) The Director of the Federal Register previously approved the incorporation by reference of Boeing Alert Service Bulletin 747-53A2349, Revision 1, dated October 12, 2000, as of June 27, 2002 (67 FR 36081, May 23, 2002).

(3) The Director of the Federal Register previously approved the incorporation by reference of Boeing Service Bulletin 747-53-2349, dated June 27, 1991, as of June 11, 1993 (58 FR 27927, May 12, 1993).

(4) To get copies of the service information, contact Boeing Commercial Airplanes, P.O. Box 3707, Seattle, Washington 98124-2207. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-20072 Filed 10-11-05; 8:45 am]

BILLING CODE 4910-13-P